DEPARTMENT OF EDUCATION

34 CFR Chapter III

[Docket ID ED-2014-OSERS-0041]

Final Priority; National Institute on Disability and Rehabilitation Research—Research Fellowships Program (Also Known as the Mary E. Switzer Research Fellowships)

[CFDA Number: 84.133F-2.]

AGENCY: Office of Special Education and Rehabilitative Services, Department of Education.

ACTION: Final priority.

SUMMARY: The Assistant Secretary for Special Education and Rehabilitative Services announces a priority for the Research Fellowships Program administered by the National Institute on Disability and Rehabilitation Research (NIDRR). Specifically, this notice announces a priority for a Distinguished Residential Disability and Rehabilitation Policy Fellowship. We take this action to focus attention on an area of national need. We intend the priority to build research capacity by providing support to highly qualified, experienced researchers, including those who are individuals with disabilities, to conduct policy research in the areas of disability and rehabilitation.

DATES: Effective Date: This priority is effective August 27, 2014.

FOR FURTHER INFORMATION CONTACT: Patricia Barrett, U.S. Department of Education, 400 Maryland Avenue SW., Room 5142, Potomac Center Plaza (PCP), Washington, DC 20202-2700. Telephone: (202) 245-6211 or by email: patricia.barrett@ed.gov.

If you use a telecommunications device for the deaf (TDD) or a text telephone (TTY), call the Federal Relay Service (FRS), toll free, at 1-800-877-8339.

SUPPLEMENTARY INFORMATION:

Purpose of Program: The purpose of the Research Fellowships Program is to build research capacity by providing support to experienced, highly qualified individuals, including those who are individuals with disabilities, to perform research on the rehabilitation of individuals with disabilities.

Fellows must conduct original research in an area authorized by section 204 of the Rehabilitation Act of 1973, as amended (the Act). Section 204 of the Act authorizes research, demonstration projects, training, and related activities, the purposes of which are to develop methods, procedures, and rehabilitation technology that maximize the full inclusion and integration into society, employment, independent living, family support, and economic and social self-sufficiency of individuals with disabilities, especially individuals with the most significant disabilities, and to improve the effectiveness of services authorized under the Act.

Program Authority: 29 U.S.C. 762(e).

Applicable Program Regulations: 34 CFR part 350.

We published a notice of proposed priority (NPP) for this program in the Federal Register on June 03, 2014 (79 FR 31898). That notice contained background information and our reasons for proposing the particular priority.

There are no differences between the proposed priority and this final priority.

Public Comment: In response to our invitation in the NPP we did not receive any comments on the proposed priority.

Final Priority:

The Assistant Secretary for Special Education and Rehabilitative Services proposes a new priority for a Distinguished Residential Disability and Rehabilitation Policy Fellowship as part of NIDRR's Research Fellowship Program (also known as the Mary E. Switzer Research Fellowships). The goals of this proposed priority are: (1) To provide experienced disability and rehabilitation researchers with opportunities to enhance their knowledge and understanding of the public policy-making process and the effects of public policy on the outcomes of individuals with disabilities; (2) to enhance the capacity of disability and rehabilitation researchers to conduct and disseminate relevant disability policy research; (3) to increase the integration and use of research findings in shaping disability-related policy; and 4) to increase awareness of disability-related issues in public policy discussions, formulations, and reviews.

Consistent with the goals of this program, an applicant for a Distinguished Residential Disability and Rehabilitation Policy Fellowship must include:

(a) An Eligibility Statement that demonstrates that you meet the eligibility requirements in 34 CFR part 356.2(c)(1), including relevant publications and prior research experience; and that provides sufficient information in order to evaluate your qualifications consistent with 34 CFR part 356.30(a).

(b) A plan for how you will fulfill the full-time equivalent requirement for a Distinguished Residential Disability and Rehabilitation Policy Fellowship and the requirement to work a minimum of 50 percent of the time in an agency or office within the Executive or Legislative branches of the Federal government, in the Washington, DC metropolitan area.

Note: As described in 34 CFR 356.41, fellows will work full-time on authorized fellowship activities. The application package for this priority provides a thorough description of how NIDRR defines and administers the full-time equivalent requirement for this program, as well as the 50 percent residential requirement.

(c) A letter of support from a potential mentor at an agency or office within the Executive or Legislative branches of the Federal Government where your fellowship will be based. The letter of support from the potential mentor should indicate the mentor's capacity and willingness to facilitate your fellowship placement should you be awarded the Distinguished Residential Disability and Rehabilitation Policy Fellowship.

(d) An assurance that you will commit to spending at least 50 percent of the time during the period of the fellowship at an agency or office within the Executive or Legislative branches of the Federal government in the Washington, DC metropolitan area, receiving orientation, conducting research, and providing expertise related to disability and rehabilitation research.

(e) A description of a proposed Distinguished Residential Disability and Rehabilitation Policy Fellowship research project that includes the following:

(1) A brief history or literature review of the disability issue, as appropriate; identification of the relevant recent legislative, regulatory, or administrative actions and the policy options related to this topic; and a rationale for the importance of the topic to improving the well-being of individuals with disabilities in one or more of NIDRR's primary outcome domains: Community Living and Participation, Employment, and Health and Function.

(2) Specific objectives and research questions or hypotheses that will guide the project, the methods you will use to conduct the research, and the proposed timeline for implementing the project.

(3) A plan for how the results of the project will be disseminated and used to influence policy.

Note: Fellows funded under this program are responsible for ensuring that their conduct does not violate Federal anti-lobbying requirements (see www.gpo.gov/fdsys/granule/USCODE-2011-title18/USCODE-2011-title18-partI-chap93-sec1913) during the period of their fellowship.

Note: The costs associated with carrying out this residential policy practicum are intended to be covered, in full or in part, by the Distinguished Residential Disability and Rehabilitation Policy Fellowship Award; however, the fellow is responsible for paying for any costs that exceed the amount of the award.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Research Fellowships Program have been well established over the years. Projects similar to the Research Fellowships Program have been completed successfully, and the proposed priority will generate new capacity in the area of rehabilitation and disability policy research.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 23, 2014
Melody Musgrove,
Director, Office of Special Education Programs.

[FR Doc. 2014-17707 Filed 7-25-14; 8:45 am]

BILLING CODE 4000-01-P